DEPARTMENT OF COMMERCE

International Trade Administration

[A-821-811]

Continuation of Antidumping Duty Order on Solid Fertilizer Grade Ammonium Nitrate From the Russian Federation

AGENCY: Import Administration, International Trade Administration, Department of Commerce.

SUMMARY: As a result of the determinations by the Department of Commerce (“the Department”) and the International Trade Commission (“ITC”) that termination of the suspended antidumping duty investigation on solid fertilizer grade ammonium nitrate (“ammonium nitrate”) from the Russian Federation (“Russia”) would likely lead to continuation or recurrence of dumping, and material injury to an industry in the United States, the Department is publishing notice of the continuation of this antidumping duty order.

DATES: Effective Date: August 10, 2011.

FOR FURTHER INFORMATION CONTACT: Julie Santoboni or Judith Wey Rudman, Import Administration, International Trade Administration, U.S. Department of Commerce, 14th Street and Constitution Avenue, NW., Washington, DC 20230; telephone (202) 482-3063 or (202) 482-0192, respectively.

SUPPLEMENTARY INFORMATION:

Background

On March 1, 2011, the Department initiated and the ITC instituted a second sunset review of the ammonium nitrate suspended investigation. See Initiation of Five-Year (“Sunset”) Review, 76 FR 11202 (March 1, 2011) and Ammonium Nitrate from Russia, Investigation No. 731-TA-856 (Second Review), 76 FR 11273 (March 1, 2011).

On March 3, 2011, the Department received a letter from the Ministry of Economic Development (“MED”) dated February 22, 2011, that had been sent to the United States Embassy in Moscow for transmittal to the Department concerning the suspension agreement. In that letter, the MED stated that it was withdrawing from the suspension agreement, effective 60 days after notice of termination. Effective May 2, 2011, the Department terminated the suspension agreement and issued an antidumping duty order. See Termination of the Suspension Agreement on Solid Fertilizer Grade Ammonium Nitrate From the Russian Federation and Notice of Antidumping Duty Order, 76 FR 23569 (April 27, 2011).

As a result of its review, the Department determined that termination of the antidumping duty order on ammonium nitrate from Russia would likely lead to a continuation or recurrence of dumping and notified the ITC of the magnitude of the margins likely to prevail, should the order be terminated. See Solid Fertilizer Grade Ammonium Nitrate From the Russian Federation; Final Results of the Expedited Sunset Review of Antidumping Duty Order, 76 FR 39847 (July 7, 2011).

On August 4, 2011, pursuant to section 751(c) of the Act, the ITC published its determination that termination of the order on ammonium nitrate from Russia would be likely to lead to continuation or recurrence of material injury to an industry in the United States within a reasonably foreseeable time. See Ammonium Nitrate from Russian, 76 FR 47238 (August 4, 2011). Therefore, pursuant to section 351.218(f)(4) of the Department's regulations, the Department is publishing this notice of the continuation of the order on ammonium nitrate from Russia.

Scope

The products covered by the order on ammonium nitrate from Russia include solid, fertilizer grade ammonium nitrate products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to the order is classified in the Harmonized Tariff Schedule of the United States (“HTSUS”) at subheading 3102.30.00.00. Although the HTSUS subheadings are provided for convenience and customs purposes, the written description of the merchandise within the scope of the order is dispositive.

Continuation

As a result of the respective determinations by the Department and the ITC that termination of the order on ammonium nitrate from Russia would likely lead to continuation or recurrence of dumping and material injury to an industry in the United States, pursuant to section 751(d)(2) of the Act, the Department hereby gives notice of the continuation of the order on ammonium nitrate from Russia. U.S. Customs and Border Protection will continue to collect cash deposits at the rates in effect at the time of entry for all imports of subject merchandise. The effective date of continuation will be the date of publication in the Federal Register of this Continuation Notice. Pursuant to sections 751(c)(2) of the Act, the Department intends to initiate the next five-year sunset review of the order on ammonium nitrate from Russia not later than July 2016.

This five-year (sunset) review and notice are in accordance with section 751(c) of the Act and published pursuant to section 777(i)(1) of the Act.

Dated: August 5, 2011.
Ronald K. Lorentzen,
Deputy Assistant Secretary for Import Administration.

[FR Doc. 2011-20308 Filed 8-9-11; 8:45 am]

BILLING CODE 3510-DS-P